DEPARTMENT OF COMMERCE

Foreign-Trade Zones Board

[Order No. 1622]

Approval of Manufacturing Authority Within Foreign-Trade Zone 50 Long Beach, CA; Phoenix MC, Inc. d/b/a Phoenix Motorcars, Inc. (Motor Vehicles)

Pursuant to its authority under the Foreign-Trade Zones Act of June 18, 1934, as amended (19 U.S.C. 81a-81u) (the Act), the Foreign-Trade Zones Board (the Board) adopts the following Order:

Whereas, the Board of Harbor Commissioners of the Port of Long Beach, grantee of FTZ 50, has requested authority under Section 400.28(a)(2) of the Board's regulations on behalf of Phoenix MC, Inc. d/b/a Phoenix Motorcars, Inc., to assemble light-duty passenger electric vehicles under FTZ procedures within FTZ 50—Site 2, Ontario, California (FTZ Docket 40-2008, filed 6-13-2008);

Whereas, notice inviting public comment has been given in the Federal Register (73 FR 34916, 6-19-2008);

Whereas, the Board adopts the findings and recommendations of the examiner's report, and finds that the requirements of the FTZ Act and the Board's regulations are satisfied, and that approval of the application is in the public interest;

Now, therefore, the Board hereby grants authority for the assembly of light-duty passenger electric vehicles within FTZ 50 for Phoenix MC, Inc. d/b/a Phoenix Motorcars, Inc., as described in the application and Federal Register notice, subject to the Act and the Board's regulations, including Section 400.28.

Signed at Washington, DC, this 15th day of May 2009.
Ronald K. Lorentzen,
Acting Assistant Secretary of Commerce for Import Administration, Alternate Chairman, Foreign-Trade Zones Board.
Attest:
Andrew McGilvray,
Executive Secretary.

[FR Doc. E9-12404 Filed 5-27-09; 8:45 am]

BILLING CODE P